DEPARTMENT OF COMMERCE

Bureau of Industry and Security

15 CFR Part 738

[Docket No. 0907241162-91276-01]

RIN 0694-AE62

Amendments to the Export Administration Regulations (EAR) Based Upon the Accession of Albania and Croatia to Formal Membership in the North Atlantic Treaty Organization (NATO)

Correction

In rule document E9-30484 beginning on page 68142 in the issue of Wednesday, December 23, 2009, make the following correction:

Supplement No. 1 to Part 738 [Corrected]

On page 68145, in Supplement No. 1 to Part 738, the table is reprinted to read as set forth below:

Supplement No. 1 to Part 738—Commerce Country Chart
[Reason for control]
Countries | Chemical & biological weapons: CB | Chemical & biological weapons: CB | Chemical & biological weapons: CB | Nuclear nonproliferation: NP | Nuclear nonproliferation: NP | National Security: NS | National Security: NS | Missile Tech: MT | Regional Stability: RS | Regional Stability: RS | Firearms convention: FC | Crime control: CC | Crime control: CC | Crime control: CC | Anti-terrorism: AT | Anti-terrorism: AT
| 1 | 2 | 3 | 1 | 2 | 1 | 2 | 1 | 1 | 2 | 1 | 1 | 2 | 3 | 1 | 2
* * * * * * *
Albania ² ³ | X | X |  | X |  | X | X | X | X |  |  |  |  |  |  |
* * * * * * *
Croatia ³ | X |  |  | X |  | X |  | X | X |  |  |  |  |  |  |
* * * * * * *
²See §742.4(a) for special provisions that apply to exports and reexports to these countries of certain thermal imaging cameras.
³See §742.6(a)(3) for special provisions that apply to military commodities that are subject to ECCN OA919.

[FR Doc. C1-2009-30484 Filed 1-7-10; 8:45 am]

BILLING CODE 1505-01-D